MERIT SYSTEMS PROTECTION BOARD

5 CFR Part 1206

Practices and Procedures, Board Meetings

AGENCY: Merit Systems Protection Board.

ACTION: Final rule.

SUMMARY: The Merit Systems Protection Board (MSPB or the Board) is amending its open meeting regulations to ensure consistency with the Government in the Sunshine Act.

DATES: The effective date of this final rule is February 28, 2011.

FOR FURTHER INFORMATION CONTACT: William D. Spencer, Clerk of the Board, Merit Systems Protection Board, 1615 M Street, NW., Washington, DC 20419; (202) 653-7200, fax: (202) 653-7130, or e-mail: mspb@mspb.gov.

SUPPLEMENTARY INFORMATION: On November 18, 2010, the Board published a proposed rule in which several proposed amendments to 5 CFR 1206.7 were set forth (75 FR 70617). Interested parties were invited to submit comments. No comments were received. This final rule implements the changes to 5 CFR 1206.7 offered in the Proposed Rule without alteration.

The Final Rule

This final rule makes several amendments to 5 CFR 1206.7. The heading for § 1206.7 is revised to more fully advise the reader of matters addressed therein. Paragraph (a)(1) is added to make clear that the Board may, instead of maintaining a transcript or electronic recording, maintain a set of minutes of a meeting closed pursuant to section (10) of 5 U.S.C. 552b(c). This revised section also sets forth the information that must be included in a set of minutes. Paragraph (a)(2) states the Board's responsibility to promptly make available to the public copies of transcripts, recordings, or minutes of closed meetings, except where the Board determines that such information may be withheld pursuant to 5 U.S.C. 552b(c). Paragraph (a)(3) addresses the Board's responsibility to retain copies of transcripts, recordings, or minutes of closed meetings. Paragraph (b) of 5 CFR 1206.7 is unchanged by this final rule.

List of Subjects in 5 CFR Part 1206

Administrative practice and procedure, Board meetings.

Accordingly, the Board amends 5 CFR part 1206 as follows:

PART 1206—[AMENDED]

1. The authority citation for 5 CFR part 1206 continues to read:

Authority: 5 U.S.C. 552b.

2. Revise § 1206.7 to read as follows:

§ 1206.7 Transcripts, recordings, or minutes of open and closed meetings; public availability; retention.

(a) Closed Meetings. (1) For every meeting, or portion thereof, closed pursuant to this part the presiding officer shall prepare a statement setting forth the time and place of the meeting and the persons present, which statement shall be retained by the Board. For each such meeting, or portion thereof, the Board shall maintain a copy of the General Counsel's certification under § 1206.6(b) of this part, a statement from the presiding official specifying the time and place of the meeting and naming the persons present, a record (which may be part of the transcript) of all votes and all documents considered at the meeting, and a complete transcript or electronic recording of the proceedings, except that for meetings or portions of meetings closed pursuant to section (10) of 5 U.S.C. 552b(c), the Board may maintain either a transcript, electronic recording, or a set of minutes. In lieu of a transcript or electronic recording, a set of minutes shall fully and accurately summarize any action taken, the reasons therefore and views thereon, documents considered and the members' vote on each roll call vote, if any.

(2) The Board shall make promptly available to the public copies of transcripts, recordings, or minutes maintained as provided in accordance with this paragraph (a), except to the extent the items therein contain information which the Board determines may be withheld pursuant to the provisions of 5 U.S.C. 552b(c). Copies of transcripts or minutes, or transcriptions of electronic recordings including the identification of speakers, shall to the extent determined to be publicly available, be furnished to any person, subject to the payment of duplication costs or the actual cost of transcription.

(3) The Board shall maintain a complete verbatim copy of the transcript, a complete copy of the minutes, or a complete electronic recording of each meeting, or portion of a meeting, closed to the public, for a period of at least two (2) years after such meeting or until one (1) year after the conclusion of any Board proceeding with respect to which the meeting or portion was held whichever occurs later.

(b) Open Meetings. Transcripts or other records will be made of all open meetings of the Board. Those records will be made available upon request at a fee representing the Board's actual cost of making them available.

William D. Spencer,
Clerk of the Board.

[FR Doc. 2011-4317 Filed 2-25-11; 8:45 am]

BILLING CODE 7400-01-P